FEDERAL RESERVE SYSTEM

Sunshine Act Meeting

Agency Holding the Meeting: Board of Governors of the Federal Reserve System.

Federal Register Citation of Previous Announcement: Forwarded to the Federal Register on Tuesday, February 11, 2003, and posted on Friday, February 14, 2003, 68 FR 7563.

Previously Announced Time and Date of the Meeting: 10 a.m., Tuesday, February 18, 2003, Open Board Meeting and approximately 10:45 a.m. following a recess after the conclusion of the Open meeting a Closed Board Meeting was scheduled.

Changes in the Meeting: Due to the closure of the Federal Government the open and closed meetings were cancelled.

FOR FURTHER INFORMATION CONTACT: Michelle A. Smith, Assistant to the Board; 202-452-2955.

SUPPLEMENTARY INFORMATION: You may call 202-452-3206 for a recorded announcement of these meetings; or you may contact the Board's Web site at http://www.federalreserve.gov for an electronic announcement. (The Web site also includes procedural and other information about these meetings.)

Dated: February 19, 2003.
Jennifer J. Johnson,
Secretary of the Board.

[FR Doc. 03-4387 Filed 2-20-03; 12:34 pm]

BILLING CODE 6210-01-P